DEPARTMENT OF TRANSPORTATION

Coast Guard

46 CFR Parts 10 and 15

[USCG 1999-6224]

RIN 2115-AF23

Licensing and Manning for Officers of Towing Vessels

AGENCY: Coast Guard, DOT.

ACTION: Interim rule with request for comments.

SUMMARY: By this interim rule, the Coast Guard amends the interim rule of November 19, 1999, on licensing and manning for officers of towing vessels. This amendment is necessary to clarify confusion caused, and lessen the burdens imposed, by that rule. The Coast Guard intends this amendment to facilitate obtaining the appropriate licenses under the rule.

DATES: This interim rule is effective on May 21, 2001. Comments and related material must reach the Docket Management Facility on or before July 25, 2001. Except as amended by this rule, the interim rule published on November 19, 1999 (64 FR 63213), and delayed on October 7, 2000 (65 FR 64388), remains effective on its terms.

ADDRESSES: To make sure your comments and related material are not entered more than once in the docket [USCG-1999-6224], please submit them by only one of the following means:

(1) By mail to the Docket Management Facility, U.S. Department of Transportation, room PL-401, 400 Seventh Street SW., Washington, DC 20590-0001.

(2) By delivery to room PL-401 on the Plaza level of the Nassif Building, 400 Seventh Street SW., Washington, DC, between 9 a.m. and 5 p.m., Monday through Friday, except Federal holidays. The telephone number is 202-366-9329.

(3) By fax to the Docket Management Facility at 202-493-2251.

(4) Electronically through the Web Site for the Docket Management System at http://dms.dot.gov.

The Docket Management Facility maintains the public docket for this rulemaking. Comments and material received from the public, as well as documents mentioned in this preamble as being available in the docket, will become part of this docket and will be available for inspection or copying at room PL-401 on the Plaza level of the Nassif Building, 400 Seventh Street SW., Washington, DC, between 9 a.m. and 5 p.m., Monday through Friday, except Federal holidays. You may also find this docket on the Internet at http://dms.dot.gov.

FOR FURTHER INFORMATION CONTACT: If you have questions on this rule, call Lieutenant Commander Luke Harden, Office of Operating and Environmental Standards (G-MSO), Coast Guard, telephone 202-267-1838. If you have questions on viewing or submitting material to the docket, call Dorothy Beard, Chief, Dockets, Department of Transportation, telephone 202-366-5149.

SUPPLEMENTARY INFORMATION:

Request for Comments

We encourage you to participate in this rulemaking by submitting comments and related material. If you do so, please include your name and address, identify the docket number for this rulemaking [USCG 1999-6224], indicate the specific section of this document to which each comment applies, and give the reason for each comment. You may submit your comments and material by mail, delivery, fax, or electronic means to the Docket Management Facility at the address under ADDRESSES; but please submit your comments and material by only one means. If you submit them by mail or delivery, submit them in an unbound format, no larger than 8½ by 11 inches, suitable for copying and electronic filing. If you submit them by mail and would like to know they reached the Facility, please enclose a stamped, self-addressed postcard or envelope. We will consider all comments and material received during the comment period. We may change this rule in view of them.

We seek your comments addressing this interim rule, specifically those concerning the operation of towing vessels on the Lower Mississippi River, below mile 304. We separated the Western Rivers and inland routes in the interim rule published on November 19, 1999, in response to public comments stating that the Western Rivers required a special skill set to operate on them safely. Therefore, we now classify the pilotage waters of the Lower Mississippi River as part of the Western Rivers. This part of the River continues to handle towing-vessel traffic from oceans, near-coastal, and Great Lakes and inland routes, as well as serving deep-draft vessels in the pilotage waters. Considering this, should towing vessel officers operating in the pilotage waters of the Lower Mississippi River be required to hold a Western Rivers Endorsement?

We also specifically seek your comments concerning the harbor-assist license. We became aware that license is similar in scope to the limited license proposed in the interim rule of November 19, 1999. Should we combine these licenses? Or is there sufficient rationale for us to maintain them as separate licenses?

Public Meeting

We do not now plan to hold a public meeting. But you may submit a request for one to the Docket Management Facility at the address under ADDRESSES explaining why one would be beneficial. If we determine that one would aid this rulemaking, we will hold one at a time and place announced by a later notice in the Federal Register.

Background and Purpose

On November 19, 1999, we published a first interim rule with request for comments (64 FR 63213). It established updates to the licensing and training of officers of towing vessels and the qualifications of those officers. We had chosen an interim rule to provide the towing industry a further opportunity for comment; to answer comments received on the Supplemental Notice of Proposed Rulemaking (SNPRM) (62 FR 55548 (October 27, 1997)); to address concerns received at public meetings; and to provide the public an opportunity to respond to changes reflected in the SNPRM. We published a second interim rule on October 27, 2000 (65 FR 64388), which delayed the implementation of the first interim rule until May 21, 2001. Delaying the rule gave us the time to clarify that rule through this third interim rule and issue guidelines implementing it.

The first interim rule is an essential part of a comprehensive initiative to improve navigational safety for towing vessels. You can glean its full background from the preambles to the notice of proposed rulemaking (NPRM) (61 FR 31332 (June 19, 1996)), the SNPRM, and the interim rule itself.

Discussion of Changes to the Interim Rule of November 19, 1999

This third interim rule contains a brief description of and reason for each of its amendments to the first interim rule:

(1) In 46 CFR 10.103, we revise the definition of inland waters. We clarify that the exclusion of Western Rivers from inland waters pertains only to towing vessels.

(2) In 46 CFR 10.205, we properly identify the towing-vessel licenses.

(3) In 46 CFR 10.209(c)(6), we describe the added information necessary to renew a license for towing vessels and remove the requirement to document ongoing training only within the Towing Officer's Assessment Record (TOAR). This increases the flexibility of this rule and allows mariners to maintain and present these records in alternative formats. It allows mariners who must document training under the International Convention on Standards of Training, Certification and Watchkeeping for Seafarers (STCW), 1978, as amended, to maintain their records with those required by STCW. It also allows those companies that maintain their own training records under quality-management systems to provide these records for their employees.

(4) From 46 CFR 10.209, we remove paragraph (c)(7), on the return of the license after suspension for incompetence; and, in § 10.223, we restore it, under suspension and revocation of licenses. This is the most appropriate site for this cite since return is not a matter of renewal.

(5) We add 46 CFR 10.210, which will illustrate eligibility for a towing license based on a mariner's current license. It will show how a mariner's license, issued before the implementation of this rule, will be grandfathered under this rule.

(6) In 46 CFR 10.223, we add the paragraph removed from § 10.209(c)(7), establishing the process for return of a towing license following suspension or revocation for incompetence.

(7) In 46 CFR 10.304, we authorize a licensed officer as well as a qualified instructor to provide training to a candidate for a towing-vessel license. This will ease the burden on the industry and is consistent with current practices. We also revise that section to reflect that this process documents only proficiency, not competence.

(8) In 46 CFR 10.412 and 10.414, we clarify the progression of a towing-vessel license into other categories and levels of license. This provides professional advancement for mariners working in the towing industry.

(9) In 46 CFR 10.463, we clarify that a towing-vessel license does not authorize service aboard vessels on foreign voyages or aboard those towing vessels greater than 200 gross register tons (GRT).

(10) Also in 46 CFR 10.463, we restrict the areas an Officer in Charge of Marine Inspection can designate as limited local areas to those on the Great Lakes, in inland waters, and on western rivers.

(11) In 46 CFR 10.464(a), we authorize service on subordinate routes, excepting western rivers, without an endorsement on the license. After it we insert Table 10.464-1, which eases the requirements for obtaining a license as master of towing vessels. We also remove the rivers route since it was not a route required of towing vessels.

(12) In 46 CFR 10.464(b), we streamline the requirements for obtaining a license as master of towing vessels (harbor assist), and we insert Table 10.464-2, reflecting the new requirements.

(13) From 46 CFR 10.464(d), we remove the limits on tonnage for mariners operating seagoing towing vessels. Our rules already impose a number of such limits for mariners operating towing vessels in general. Officers operating seagoing towing vessels must already comply with the Officers' Competency Certificates Convention, 1936, and with STCW if they are operating towing vessels greater than 200 GRT navigating seaward of the boundary line. To operate a towing vessel greater than 200 GRT or any towing vessel on an international route, an officer must hold a license authorizing service on an inspected self-propelled vessel of appropriate tonnage and the accompanying STCW form.

Also in 46 CFR 10.464(d), we allow an officer holding a license as mate of towing vessels to gain an endorsement on that license for master of towing vessels (limited). This provides the fleeting and harbor-towing industries an alternative method of obtaining masters for their operations. (Getting a license as mate of towing vessels otherwise requires the mariner to gain greater experience with a broader scope of training.)

(14) In 46 CFR 10.464(g), we authorize a master of inspected, self-propelled vessels, greater than 200 GRT, to serve as master of towing vessels while holding a completed TOAR.

(15) In 46 CFR 10.464(h), we add the authority allowing mariners already in the towing industry to obtain licenses using the licensing process existing before May 21, 2001. This phase-in period results in a gradual implementation of the requirements of this and the first interim rule, published on November 19, 1999. This addition assists those mariners who may be most affected by that interim rule.

(16) In 46 CFR 10.465 we revise paragraphs (a) and (e) and Table 10.465-1 to clarify the licensing requirements for mate (pilot) of towing vessels and the authority for subordinate routes. This makes these requirements consistent with those for master of towing vessels.

(17) Also in 46 CFR 10.465(e), we authorize a mate of inspected, self-propelled vessels, greater than 200 GRT, to serve as mate (pilot) of towing vessels while holding a completed TOAR. This change leaves these requirements consistent with those for master of towing vessels and answers the concerns about the increased workload on our resources for licensing.

(18) In 46 CFR 10.466, we revise the routes for apprentice mate. This ensures consistency among the licenses covered by this rule.

(19) In 46 CFR 15.610 and 15.910, we let officers with authority to operate towing vessels continue operating those vessels until they renew their licenses. The preamble of the first interim rule stated that officers would not have to obtain their new license until they renewed their current ones, but the rule itself set no such standard. This will reduce the burden on the industry and on our resources when this rule becomes effective.

(20) In 46 CFR 15.805 and 15.810, we clarify which officer licenses authorize service in the licensed positions on towing vessels.

(21) In 46 CFR 10.903(a)(18), we add apprentice mate (steersman) of towing vessels, limited, to the list of licenses that require examination for issuance. Its omission from the first interim rule was an oversight. In this section, we also delete paragraph (c)(7) since licenses for towing vessels will not authorize service on towing vessels 200 GRT or more.

Regulatory Evaluation

This rule is not a “significant regulatory action” under section 3(f) of Executive Order 12866, Regulatory Planning and Review, and does not require an assessment of potential costs and benefits under section 6(a)(3) of that Order. It has not been reviewed by the Office of Management and Budget under that Order. It is not “significant” under the regulatory policies and procedures of the Department of Transportation (DOT) (44 FR 11040, February 26, l979). A draft Regulatory Evaluation under paragraph 10e of the regulatory policies and procedures of DOT is available in the docket as indicated under ADDRESSES. A summary of the Evaluation follows:

Costs to Industry

There are around 5,400 documented towing vessels in the United States. This interim rule will ensure that all those officers currently operating such vessels maintain their authority after the new requirements for licensing and manning become effective on May 21, 2001. This rule accomplishes administrative changes (updates) that result in the gradual, continuous implementation of the rules on licensing and manning for officers on towing vessels.

Most revisions to the first interim rule, as reflected in this rule, either make editorial changes or update technical information to reflect comments to that rule. Certain revisions will reduce the costs to the towing industry incurred due to that rule. We estimated the annual costs—including costs for new entrants into the industry and costs associated with industry's increased paperwork burden—at $1,314,424. This rule will lessen annual costs by $3,780, bringing them down to $1,310,644. Their 10-year present value, from 2001 up to 2010, discounted at 7 percent to 2000, would total $9,205,414, and this represents $26,550 less than the total present value due to that rule, $9,231,964. The difference in the cost to the industry arises from the removal of the requirement of passing an examination when the mariners holding licenses as master or mate of self-propelled vessels of greater than 200 GRT seek endorsements for towing vessels (46 CFR 10.464 and 10.465).

The annual costs to the Federal Government, estimated in the first interim rule, consist in the time and resources for our reviewing documentation of ongoing training and drills such as TOARs of current mariners, as well as the service records, applications, and check-ride results of new ones. We estimated the total costs to the Government at $70,464 a year. The 10-year present value of costs to the Government, discounted at 7 percent to 2000, would total $494,910.

We estimate that this rule decreases the 10-year present value, discounted at 7 percent to 2000, of costs to industry and the Government to a total of $9,700,324. This represents $26,550 less than the total present value of $9,726,874 under the unchanged first interim rule.

Benefits to Industry

This rule clarifies and lessens the requirements for obtaining appropriate licenses imposed by the first interim rule. It also provides mariners with flexibility when seeking to obtain a license in the towing industry. This rule allows another path for mariners to obtain licenses in niche markets, such as the fleeting and harbor-towing industries, in less time. It also allows another method for reporting information required by that rule.

We estimated, in the first interim rule, that annual benefits from preventing deaths will range from $2,430,000 to $5,130,000, while annual benefits from preventing property damage will range from $1,158,987 to $2,546,694. The 10-year present value of total benefits should range from $25,207,543 to $53,917,886. Therefore, the 10-year benefit-cost ratio of this rule should range from 2.60 to 5.56 with the average being 4.08.

Finally, this benefit analysis considered only a portion of the 1500 cases where a lack of knowledge or proficiency was cited as a causal factor. We did not quantify any benefits from preventing injuries. Other areas where benefits exist, but were not quantified, were disruption of private automobile and commercial truck traffic when bridges are damaged, and environmental damage from spilled cargo.

Small Entities

Under the Regulatory Flexibility Act (5 U.S.C. 601-612), we consider whether this rule would have a significant economic impact on a substantial number of small entities. The term “small entities” comprises small businesses, not-for-profit organizations that are independently owned and operated and are not dominant in their fields, and governmental jurisdictions with populations of less than 50,000.

This interim rule places its primary economic burden on the mariners, not on their employers. However, towing companies would be required to maintain evidence that every vessel they operate is under the direction and control of a licensed mariner with appropriate experience, including 30 days of observation and training on the intended route. While this could be accomplished using copies of records that most companies already keep, it is impossible to determine exactly how many companies will have an increased burden. This analysis considered all of the approximately 1,252 companies operating towing vessels to be small entities that will experience an increased burden. At an estimated increased burden of 2 hours per year, the total small entity impact of this rule is expected to be $42,568 per year (1,252 companies × 2 hours per company per year × $17 per hour).

Therefore, the Coast Guard certifies under 5 U.S.C. 605(b) that this rule will not have a significant economic impact on a substantial number of small entities. If you think that your business, organization, or governmental jurisdiction qualifies as a small entity and that this rule will have a significant economic impact on it, please submit a comment to the Docket Management Facility at the address under ADDRESSES. In your comment, explain why you think it qualifies and how and to what degree this rule will economically affect it.

Collection of Information

This interim rule calls for no new collection of information under the Paperwork Reduction Act of 1995 (44 U.S.C. 3501-3520). Indeed, it should reduce administrative difficulty for everyone affected by it.

Federalism

The Coast Guard has analyzed this final rule under the principles and criteria in Executive Order 13132 and has determined that this final rule does not have sufficient federalism implications to warrant the preparation of a Federalism Assessment.

It is well settled that States are precluded from regulation in categories that are reserved for regulation by the Coast Guard. It is also well settled, now, that all of the categories covered in 46 U.S.C. 3306, 3703(a), 7101, and 8101 (design, construction, alteration, repair, maintenance, operation, equipping, personnel qualification, and manning of vessels) are within the field foreclosed from State regulation. (See the decision of the Supreme Court in the consolidated cases of United States v. Locke and Intertanko v. Locke, 120 S. Ct. 1135, 2000 U.S. LEXIS 1895 (March 6, 2000)). Since this rule involves the requirements that facilitate mates obtaining their appropriate licenses, it falls into the manning category, thereby precluding States from regulation. Because States may not promulgate rules within this category, preemption is not an issue under E.O. 13132.

Unfunded Mandates Reform Act

The Unfunded Mandates Reform Act of 1995 (2 U.S.C. 1531-1538) requires Federal agencies to assess the effects of their regulatory actions not specifically required by law. In particular, the Act addresses actions that may result in the expenditure by a State, local, or tribal government, in the aggregate, or by the private sector of $100 million or more in any one year. Though this interim rule will not result in such expenditure, the effects of this rule are discussed elsewhere in this preamble.

Taking of Private Property

This interim rule will not effect a taking of private property or otherwise have taking implications under Executive Order 12630, Governmental Actions and Interference with Constitutionally Protected Property Rights (53 FR 8859 (March 15, 1988)).

Reform of Civil Justice

This interim rule meets applicable standards in sections 3(a) and 3(b)(2) of Executive Order 12988, Civil Justice Reform, to minimize litigation, eliminate ambiguity, and reduce burden.

Consultation and Coordination With Indian Tribal Governments

This interim rule will not have tribal implications; will not impose substantial direct compliance costs on Indian tribal governments; and will not preempt tribal law. Therefore, it is exempt from the consultation requirements of Executive Order 13175. If tribal implications are identified during the comment period we will undertake appropriate consultations with the affected Indian tribal officials.

Protection of Children

We have analyzed this interim rule under Executive Order 13045, Protection of Children from Environmental Health Risks and Safety Risks. This rule is not an economically significant rule and does not concern an environmental risk to health or risk to safety that may disproportionately affect children.

Environment

We considered the environmental impact of this interim rule and concluded that, under figure 2-1, paragraph (34)(a) of Commandant Instruction M16475.lC, this rule is categorically excluded from further environmental documentation. Under paragraph (34)(a), this exclusion is appropriate for rules that are “editorial or procedural, such as those updating addresses or establishing application procedures.” A Determination of Categorical Exclusion is available in the docket where indicated under ADDRESSES.

List of Subjects

46 CFR Part 10

Reporting and recordkeeping requirements, Schools, Seamen.

46 CFR Part 15

Reporting and recordkeeping requirements, Seamen, Vessels.

For the reasons discussed in the preamble, the Coast Guard amends the interim rule published on November 19, 1999 (64 FR 63213) and delayed on October 27, 2000 (65 FR 64388), and 46 CFR chapter I as follows:

PART 10—LICENSING OF MARITIME PERSONNEL

1. In § 10.103, revise the definition of Inland waters to read as follows:

§ 10.103 Definitions of terms used in this part.

* * * * *

Inland waters means the navigable waters of the United States shoreward of the Boundary Lines as described in 46 CFR part 7, excluding the Great Lakes and, for towing vessels, excluding the Western Rivers. For establishing credit for sea service, the waters of the Inside Passage between Puget Sound and Cape Spencer, Alaska, are inland waters.

* * * * *

2. In § 10.205, revise paragraph (g)(3) to read as follows:

§ 10.205 Requirements for original licenses, certificates of registry, and STCW certificates and endorsements.

* * * * *

(g) * * *

(3) All licenses for master or mate (pilot) of towing vessels, except apprentice mate (steersman) of such vessels, on oceans.

* * * * *

§ 10.209 [Amended]

3. In § 10.209 remove paragraph (c)(7) and revise paragraph (c)(6) to read as follows:

§ 10.209 Requirements for renewal of licenses, certificates of registry, and STCW certificates and endorsements.

* * * * *

(c) * * *

(6) An applicant for renewal of a license as master or mate (pilot) of towing vessels shall submit satisfactory evidence of either by—

(i) Completing a practical demonstration of maneuvering and handling a towing vessel before a designated examiner; or

(ii) Submitting documentary proof of ongoing participation in training and drills during the validity of the license being renewed.

* * * * *

4. Add § 10.210 to read as follows:

§ 10.210 Eligibility for towing license.

The figure that follows illustrates the conversion of a towing license issued before May 21, 2001. The conversion will take place at the first renewal or upgrade of the license after May 20, 2001.

BILLING CODE 4910-15-U

5. In § 10.223 add paragraph (d) to read as follows:

§ 10.223 Suspension and revocation of licenses.

* * * * *

(d) An applicant for renewal or return of a license as master or mate (pilot) of towing vessels whose most recent license was suspended or revoked by an administrative law judge for incompetence shall complete the practical demonstration under paragraph (c)(6)(i) of § 10.209.

§ 10.304 [Amended]

6. In § 10.304:

a. In paragraph (h)(5), following the words “qualified instructor”, add the words “or licensed officer (with authority to operate a towing vessel)”;

b. In paragraph (h)(6), remove the word “competent” and replace it with the word “proficient”; and

c. In paragraph (h)(7), following the words “qualified instructor”, add the words “or licensed officer (with authority to operate a towing vessel)”.

§ 10.412 [Amended]

7. In § 10.412 in paragraph (a), following the word “mate,” in three places, add the words “master or mate (pilot) of towing vessels,”.

§ 10.414 [Amended]

8. In § 10.414 in paragraph (a), following the word “mate,” in three places, add the words “master or mate (pilot) of towing vessels,”.

9. In § 10.463:

a. Redesignate paragraphs (a), (b), and (c) as (b), (c), and (d), respectively;

b. Add a new paragraph (a) to read as set forth below; and

c. Revise redesignated paragraphs (c) and (d) to read as follows:

§ 10.463 General requirements for licenses for master, mate (pilot), and apprentice mate (steersman) of towing vessels.

(a) A license issued to an officer of towing vessels does not authorize service aboard such vessels on a foreign voyage nor aboard such vessels greater than 200 gross register tons on oceans or near-coastal waters.

* * * * *

(c) A license as master of towing vessels means a license to operate towing vessels not restricted to harbor assist and not restricted to local areas designated by OCMIs. This also applies to a license as mate (pilot) of towing vessels.

(d) For this section, limited means a license to operate a towing vessel of less than 200 gross register tons limited to a local area within the Great Lakes, inland waters, or Western Rivers designated by the OCMI.

10. In § 10.464, revise paragraphs (a), (b), (d), and (g), and add paragraph (h) to read as follows:

§ 10.464 Requirements for licenses as master of towing vessels.

(a) If you would like to obtain a license as master of towing vessels endorsed with a route listed in column 1 of Table 10.464-1, then you must complete the service indicated in columns 2 through 5. If you hold a license as master of towing vessels (harbor assist), then you must complete the service listed in columns 6 through 9. A license endorsed for a route listed in column 1 authorizes service on the subordinate routes listed in column 10, without further endorsement.

BILLING CODE 4910-15-U

(b) If you would like to obtain a license as master of towing vessels (harbor assist), then you must complete the service indicated in columns 2 through 6 of Table 10.464-2. If you would like to upgrade your license as master of towing vessels (limited), then you must complete the service listed in columns 7 through 9.

BILLING CODE 4910-15-C

* * * * *

(d) If you hold a license as mate (pilot) of towing vessels, you may have master of towing vessels (limited) added to your license for a limited local area within the scope of your current route.

* * * * *

(g) If you hold a license as a master of inspected, self-propelled vessels of greater than 200 gross register tons, you may operate towing vessels within any restrictions on your license if you—

(1) Have 30 days of training and observation on towing vessels for the route being assessed, except as noted in paragraph (e) of this section; and

(2) Either—

(i) Hold a completed Towing Officer's Assessment Record (TOAR) described in § 10.304(h) that shows evidence of assessment of practical demonstration of skills; or

(ii) Complete an approved training course. Your license does not need a towing endorsement if you hold a TOAR.

(h) If you began your service or training in the towing industry before May 21, 2001, you may receive a license as master of towing vessels if before May 21, 2004, you complete the examination required by 46 CFR 10.903(a)(18)(i) and meet either of the following two requirements:

(1) Three years of service, including—

(i) Two years on deck aboard a vessel 8 meters (26 feet) or more in length;

(ii) One year on deck aboard a towing vessel, with at least 6 months of training or duty in the wheelhouse of the towing vessel; and

(iii) Three months in each particular geographic area for which you are seeking authority; or

(2) Three years of service aboard towing vessels, including—

(i) One year on deck, with at least 6 months of training or duty in the wheelhouse of the towing vessel; and

(ii) Three months in each particular geographic area for which you are seeking authority.

Your license does not need a towing endorsement if you hold a TOAR or a course completion certificate.

§ 10.465 [Amended]

11. In § 10.465, remove paragraph (b), redesignate paragraphs (c), (d), (e), (f), and (g) as (b), (c), (d), (e), and (f), respectively, and revise paragraphs (a) and newly redesignated (e) to read as follows:

§ 10.465 Requirements for licenses as mate (pilot) of towing vessels.

(a) If you would like to obtain a license as mate (pilot) of towing vessels endorsed with a route listed in column 1 of Table 10.465-1, then you must complete the service in columns 2 through 5. If you hold a license as master of towing vessels (harbor assist or limited) and would like to upgrade it to mate (pilot) of towing vessels, then you must complete the service in columns 5 and 6. If you hold a license as mate (pilot) of towing vessels (limited) and would like to upgrade it to mate (pilot) of towing vessels, then you must complete the service in columns 2 through 5 and pass a limited examination. A license with a route endorsed in column 1 authorizes service on the subordinate routes listed in column 7, without further endorsement.

BILLING CODE 4910-15-U

BILLING CODE 4910-15-C

* * * * *

(e) If you hold a license as a mate of inspected, self-propelled vessels of greater than 200 gross register tons or one as first-class pilot, then you may operate towing vessels within any restrictions on your license if you—

(1) Have 30 days of training and observation on towing vessels for the route being assessed, except as noted in paragraph (b) of this section; and

(2) Hold a completed Towing Officer's Assessment Record (TOAR) described in § 10.304(h) that shows evidence of assessment of practical demonstration of skills.

Your license does not need a towing endorsement if you hold a TOAR or a course completion certificate.

* * * * *

12. Amend § 10.466 by revising paragraph (a) to read as follows:

§ 10.466 Requirements for licenses as apprentice mate (steersman) of towing vessels.

(a) As Table 10.466-1 shows, if you would like to obtain a license as apprentice mate (steersman) of towing vessels listed in column 1, endorsed with a route listed in column 2, then you must complete the requirements indicated in columns 3 through 6.

BILLING CODE 4910-15-U

BILLING CODE 4910-15-C

* * * * *

13. In § 10.903, in paragraph (a), add a new paragraph (a)(18)(iii) to read as set forth below; remove paragraph (c)(7); and redesignate paragraphs (c)(8), (c)(9), (c)(10), (c)(11), (c)(12), (c)(13), (c)(14), (c)(15), (c)(16), (c)(17), (c)(18), and (c)(19) as paragraphs (c)(7), (c)(8), (c)(9), (c)(10), (c)(11), (c)(12), (c)(13), (c)(14), (c)(15), (c)(16), (c)(17), and (c)(18) respectively.

§ 10.903 License requiring examination.

(a) * * *

(18) * * *

(iii) Apprentice mate (steersman) of towing vessels, limited;

* * * * *

PART 15—MANNING REQUIREMENTS

14. Revise § 15.610 to read as follows:

§ 15.610 Master and mate (pilot) of towing vessels.

(a) Except as provided in this paragraph, every towing vessel of at least 8 meters (at least 26 feet) in length, measured from end to end over the deck (excluding sheer), must be under the direction and control of a person licensed as master or mate (pilot) of towing vessels or as master or mate of vessels of greater than 200 gross register tons holding either an endorsement on his or her license for towing vessels or a completed Towing Officer's Assessment Record (TOAR) signed by a designated examiner indicating that the officer is proficient in the operation of towing vessels. This does not apply to any vessel engaged in assistance towing, or to any towing vessel of less than 200 gross register tons engaged in exploiting offshore minerals or oil if the vessel has sites or equipment so engaged as its place of departure or ultimate destination.

(b) An officer may continue to operate towing vessels within any restrictions of his or her license from May 21, 2001, until the first renewal or upgrade of that license, but not later than May 21, 2006. Every towing vessel covered by paragraph (a) of this section must carry at least the following personnel:

(1) An officer designated Master and holding a license as—

(i) Master of towing vessels;

(ii) Master of towing vessels (Harbor Assist) or (Limited) when operating solely within a limited local area;

(iii) Operator of uninspected towing vessels;

(iv) Master of inspected, self-propelled vessels within any restrictions on the license; or

(v) Mate or first-class pilot of inspected, self-propelled vessels with a license for service in vessels of greater than 200 gross register tons (Domestic service only).

(2) Another officer, if the vessel is operating more than 12 hours in any 24-hour period, holding a license—

(i) Listed in 46 CFR 15.610(b)(1);

(ii) As mate (pilot) of towing vessels;

(iii) As second-class OUTV; or

(iv) As mate of inspected, self-propelled vessels within any restrictions on the license.

(c) Paragraph (b) of this section applies until the officer's first renewal or upgrade of license after May 21, 2001.

15. Revise § 15.805(a)(5) to read as follows:

§ 15.805 Master.

(a) * * *

(5) Every towing vessel of at least 8 meters (at least 26 feet) or more in length must be under the command of a master of towing vessels, or a mariner licensed as master of inspected, self-propelled vessels greater than 200 gross register tons (GRT) holding either—

(i) A completed Towing Officer's Assessment Record (TOAR), bearing the signature of a Designated Examiner and stating that the Examiner found the candidate proficient; or

(ii) A license endorsed for towing vessels.

* * * * *

16. Revise § 15.810(d) to read as follows:

§ 15.810 Mates.

* * * * *

(d) Each person in charge of the navigation or maneuvering of a towing vessel of at least 8 meters (at least 26 feet) in length must hold a license authorizing service as either—

(1) Mate (pilot) of towing vessels; or

(2) Mate of inspected self-propelled vessels greater than 200 GRT within any other restrictions on the officer's license, holding either—

(i) A completed Towing Officer's Assessment Record (TOAR) bearing the signature from a Designated Examiner and stating that the Examiner found the candidate proficient; or

(ii) A license endorsed for towing vessels.

* * * * *

17. Revise § 15.910 to read as follows:

§ 15.910 Towing vessels.

(a) No person may serve as master or mate (pilot) of any towing vessel without meeting the requirements of 46 CFR 15.805(a)(5) or 15.810(d), respectively.

(b) Through May 21, 2006, the exception granted by 46 CFR 15.610(b) of this part applies to the manning of towing vessels.

Dated: March 29, 2001.
R.C. North,
Assistant Commandant for Marine Safety and Environmental Protection.

[FR Doc. 01-10284 Filed 4-25-01; 8:45 am]

BILLING CODE 4910-15-U